DEPARTMENT OF THE INTERIOR

National Park Service

[NPS-WASO-NAGPRA-NPS0028203; PPWOCRADN0-PCU00RP14.R50000]

Notice of Inventory Completion: U.S. Department of the Interior, Bureau of Reclamation, Nebraska-Kansas Area Office, McCook, NE, and History Nebraska (Formerly the Nebraska State Historical Society), Lincoln, NE

AGENCY: National Park Service, Interior.

ACTION: Notice.

SUMMARY: The Nebraska-Kansas Area Office of the Bureau of Reclamation, and History Nebraska (formerly the Nebraska State Historical Society) have completed an inventory of human remains and an associated funerary object, in consultation with the appropriate Indian Tribes or Native Hawaiian organizations, and have determined that there is a cultural affiliation between the human remains and associated funerary object and present-day Indian Tribes or Native Hawaiian organizations. Lineal descendants or representatives of any Indian Tribe or Native Hawaiian organization not identified in this notice that wish to request transfer of control of these human remains and associated funerary object should submit a written request to History Nebraska. If no additional requestors come forward, transfer of control of the human remains and associated funerary object to the lineal descendants, Indian Tribes, or Native Hawaiian organizations stated in this notice may proceed.

DATES: Lineal descendants or representatives of any Indian Tribe or Native Hawaiian organization not identified in this notice that wish to request transfer of control of these human remains and associated funerary object should submit a written request with information in support of the request to History Nebraska at the address in this notice by August 14, 2019.

ADDRESSES: Rob Bozell, History Nebraska, 5050 N 32nd Street, Lincoln, NE 68504, telephone (402) 525-1624, email rob.bozell@nebraska.gov.

SUPPLEMENTARY INFORMATION: Notice is here given in accordance with the Native American Graves Protection and Repatriation Act (NAGPRA), 25 U.S.C. 3003, of the completion of an inventory of human remains and associated funerary object under the control of the U.S. Department of the Interior, Bureau of Reclamation, Nebraska-Kansas Area Office, McCook, NE, and in the physical custody of History Nebraska (formerly the Nebraska State Historical Society), Lincoln, NE. The human remains were removed from Buffalo, Frontier, Merrick, and Nance Counties, NE.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains was made by the Bureau of Reclamation, Nebraska-Kansas Area Office and History Nebraska professional staff in consultation with representatives of the Arapaho Tribe of the Wind River Reservation, Wyoming; Iowa Tribe of Kansas and Nebraska; Kiowa Indian Tribe of Oklahoma; Northern Cheyenne Tribe of the Northern Cheyenne Indian Reservation, Montana; Omaha Tribe of Nebraska; Pawnee Nation of Oklahoma; Ponca Tribe of Nebraska; Santee Sioux Nation, Nebraska; Sisseton-Wahpeton Oyate of the Lake Traverse Reservation, South Dakota; and the Winnebago Tribe of Nebraska.

The Apache Tribe of Oklahoma; Assiniboine and Sioux Tribes of the Fort Peck Indian Reservation, Montana; Cheyenne and Arapaho Tribes, Oklahoma (previously listed as the Cheyenne-Arapaho Tribes of Oklahoma); Cheyenne River Sioux Tribe of the Cheyenne River Reservation, South Dakota; Comanche Nation, Oklahoma; Crow Creek Sioux Tribe of the Crow Creek Reservation, South Dakota; Crow Tribe of Montana; Delaware Nation, Oklahoma; Delaware Tribe of Indians; Iowa Tribe of Oklahoma; Kaw Nation, Oklahoma; Kickapoo Tribe of Indians of the Kickapoo Reservation in Kansas; Kickapoo Tribe of Oklahoma; Lower Brule Sioux Tribe of the Lower Brule Reservation, South Dakota; Oglala Sioux Tribe (previously listed as the Oglala Sioux Tribe of the Pine Ridge Reservation, South Dakota); Otoe-Missouria Tribe of Indians, Oklahoma; Ponca Tribe of Indians of Oklahoma; Prairie Band Potawatomi Nation (previously listed as the Prairie Band of Potawatomi Nation, Kansas); Rosebud Sioux Tribe of the Rosebud Indian Reservation, South Dakota; Sac & Fox Nation of Missouri in Kansas and Nebraska; Sac & Fox Nation, Oklahoma; Sac & Fox Tribe of the Mississippi in Iowa; Spirit Lake Tribe, North Dakota; Standing Rock Sioux Tribe of North & South Dakota; Three Affiliated Tribes of the Fort Berthold Reservation, North Dakota; Wichita and Affiliated Tribes (Wichita, Keechi, Waco & Tawakonie), Oklahoma; and the Yankton Sioux Tribe of South Dakota were invited to consult but did not participate.

Hereafter, all the Indian Tribes listed in this section are referred to as “The Consulted and Invited Tribes.”

History and Description of the Remains

In 1973, human remains representing, at minimum, two individuals were removed from the Flat Rock site 25BF210 in Buffalo County, NE. The human remains were excavated by the University of Nebraska, Lincoln working under contract to the National Park Service during archeological investigations of the proposed Mid-State Irrigation Project. In 2011, the human remains were discovered and removed from the 25BF210 archeological collection during a curation project by History Nebraska conducted under an agreement with the Bureau of Reclamation. The human remains represent two individuals of unknown sex and age (25BF210-A and 25BF210-B). No known individuals were identified. No associated funerary objects are present.

In 1933, human remains representing, at minimum, one individual were removed from the Gammill-Phillips site 25FT1 in Frontier County, NE. The human remains were excavated by the Nebraska State Historical Society during the course of archeological investigations. The human remains represent one (possibly male) child 1.5-2.5 years of age. No known individuals were identified. No associated funerary objects are present.

In 1933, human remains representing, at minimum, two individuals were removed from the Owens site 25FT3 in Frontier County, NE. The human remains were excavated by History Nebraska during archeological investigations. The human remains represent one (possibly female) 20-30 years of age (25FT3-A), and one individual of unknown sex and age (25FT3-B). No known individuals were identified. No associated funerary objects are present.

Sometime prior to 1990, and under unknown circumstances, human remains representing, at minimum, one individual were removed from the Compton site 25FT13 in Frontier County, NE. The human remains represent one adult of unknown age or sex. No known individuals were identified. No associated funerary objects are present.

In 1947, human remains representing, at minimum, one individual were removed from the Aiken site 25FT16-A in Frontier County, NE. The human remains were excavated by the Smithsonian Institution-River Basin Surveys during the course of archeological investigations. The human remains represent one (possibly female) child 9.5-10.5 years of age. No known individuals were identified. No associated funerary objects are present.

In 1947, human remains representing, at minimum, one individual were removed from the Aiken site 25FT16-B in Frontier County, NE. The human remains were excavated by the Smithsonian Institution-River Basin Surveys during the course of archeological investigations. The human remains represent one adult female 25-40 years of age. No known individuals were identified. No associated funerary objects are present.

In 1947-1948, human remains representing, at minimum, one individual were removed from archeological site 25FT17 in Frontier County, NE. The human remains were excavated by the Smithsonian Institution-River Basin Surveys during archeological investigations. In 2011, the human remains were discovered and removed from the 25FT17 archeological collection during a curation project conducted by History Nebraska under an agreement with the Bureau of Reclamation. The human remains represent one individual of unknown sex and age. No known individuals were identified. No associated funerary objects are present.

In the 1940s, human remains representing, at minimum, one individual were removed from archeological site 25FT22-A in Frontier County, NE. The human remains were excavated by the Smithsonian Institution-River Basin Surveys during the course of archeological investigations. The human remains represent one child female 3-6 years of age. No known individuals were identified. No associated funerary objects are present.

In the 1940s, human remains representing, at minimum, one individual were removed from archeological site 25FT22-B in Frontier County, NE. The human remains were excavated by the Smithsonian Institution-River Basin Surveys during the course of archeological investigations. The human remains represent one adult male 15-35 years of age. No known individuals were identified. No associated funerary objects are present.

In 1987, human remains representing, at minimum, one individual were removed from archeological site 25FT22-C in Frontier County, NE. The human remains were excavated by Donna Roper during archeological investigations of Medicine Creek Reservoir under a contract with the Bureau of Reclamation. The human remains represent one child of unknown sex 5-6 years of age. No known individuals were identified. No associated funerary objects are present.

In the 1940s, human remains representing, at minimum, one individual were removed from archeological site 25FT28-A in Frontier County, NE. The human remains were excavated by the Smithsonian Institution-River Basin Surveys during the course of archeological investigations. The human remains represent one adult male 15-35 years of age. No known individuals were identified. No associated funerary objects are present.

In 1947 or 1949, human remains representing, at minimum, one individual were removed from archeological site 25FT39-A in Frontier County, NE. The human remains were excavated by the Smithsonian Institution-River Basin Surveys during the course of archeological investigations. The human remains represent one adult of unknown age or sex. No known individuals were identified. No associated funerary objects are present.

Prior to 1990, and under unknown circumstances, human remains representing, at minimum, one individual were removed from archeological site 25FT39-B in Frontier County, NE. In 2011, the human remains were discovered and removed from the 25FT39 archeological collection during a curation project conducted by History Nebraska under an agreement with the Bureau of Reclamation. The human remains represent one individual of unknown age or sex. No known individuals were identified. No associated funerary objects are present.

In 1985, human remains representing, at minimum, two individuals were removed from the Marvin Colson site 25FT158 in Frontier County, NE. The human remains were excavated by Donna Roper during the course of archeological investigations under a contract with the Bureau of Reclamation. The human remains represent two adults of unknown age or sex (25FT158-A and 25FT158-B). No known individuals were identified. No associated funerary objects are present.

In 1992, human remains representing, at minimum, one individual were removed from the Tahaksu site 25MK15 in Merrick County, NE. The human remains were excavated by the University of Nebraska State Museum working under contract to the Bureau of Reclamation during construction of the Fullerton Canal project. The human remains represent one individual of unknown age and sex. No known individuals were identified. No associated funerary objects are present.

In 1992, human remains representing, at minimum, five individuals were removed from the Palmer Locality site 25NC29 in Nance County, NE. The human remains were excavated by the University of Nebraska State Museum working under contract to the Bureau of Reclamation during construction of the Fullerton Canal project. The human remains represent one young adult of unknown age and sex (25NC29-A), one child 4-6 years of age (25NC29-B), one adult of unknown age and sex (25NC29-C), and one child 5-6 years of age (25NC29-D). In 2006, human remains were discovered and removed from the 25NC29 archeological collection during a curation project conducted by History Nebraska under an agreement with the Bureau of Reclamation. The human remains represent one individual of unknown sex and age (25NC29-E). No known individuals were identified. The one associated funerary object is red ochre pigment found with individual 25NC29-A.

The human remains listed in this notice were determined to be Native American based on archeological context, burial patterns, osteology, or associated diagnostic artifacts. Based on oral tradition and archeological evidence, the Bureau of Reclamation and History Nebraska have determined there is a relationship of shared group identity that can be reasonably traced between the human remains listed in this notice and the Native American people that are represented today by three Indian Tribes.

Determinations Made by the U.S. Department of the Interior, Bureau of Reclamation, Nebraska-Kansas Area Office and History Nebraska

Officials of the U.S. Department of the Interior, Bureau of Reclamation, Nebraska-Kansas Area Office and History Nebraska have determined that:

• Pursuant to 25 U.S.C. 3001(9), the human remains described in this notice represent the physical remains of 23 individuals of Native American ancestry.

• Pursuant to 25 U.S.C. 3001(3)(A), the one object described in this notice that is reasonably believed to have been placed with or near individual human remains at the time of death or later as part of the death rite or ceremony.

• Pursuant to 25 U.S.C. 3001(2), there is a relationship of shared group identity that can be reasonably traced between the Native American human remains and the Pawnee Nation of Oklahoma; Three Affiliated Tribes of the Fort Berthold Reservation, North Dakota; and the Wichita and Affiliated Tribes (Wichita, Keechi, Waco & Tawakonie), Oklahoma (hereafter referred to as “The Affiliated Tribes”).

Additional Requestors and Disposition

Lineal descendants or representatives of any Indian Tribe or Native Hawaiian organization not identified in this notice that wish to request transfer of control of these human remains and associated funerary object should submit a written request with information in support of the request to Rob Bozell, History Nebraska, 5050 N 32nd Street, Lincoln, NE 68504, telephone (402) 525-1624, email rob.bozell@nebraska.gov, by August 14, 2019. After that date, if no additional requestors have come forward, transfer of control of the human remains and associated funerary object to The Affiliated Tribes may proceed.

The U.S. Department of the Interior, Bureau of Reclamation, Nebraska-Kansas Area Office is responsible for notifying The Consulted and Invited Tribes that this notice has been published.

Dated: June 13, 2019.
Melanie O'Brien,
Manager, National NAGPRA Program.

[FR Doc. 2019-14933 Filed 7-12-19; 8:45 am]

BILLING CODE 4312-52-P